DEPARTMENT OF THE INTERIOR

Bureau of Indian Affairs

[Docket No. BIA-2022-0005-0004; 245A2100DD/AAKC001030/A0A501010.999900; OMB Control Number 1076-0018, 1076-0020, 1076-0047, 1076-0094, 1076-0112, 1076-0114, 1076-0120, 1076-0131, 1076-0134, 1076-0135, 1076-0153, 1076-0160, 1076-0169, 1076-0182, 1076-0183, 1076-0184, 1076-0190, 1076-0199]

Agency Information Collection Activities; Request for Comment on Fiscal Year 2025 Expirations Under the Paperwork Reduction Act

AGENCY: Bureau of Indian Affairs, Interior.

ACTION: Notice of information collection; request for comment.

SUMMARY: In accordance with the Paperwork Reduction Act of 1995, we, Indian Affairs, are proposing to renew eighteen (18) information collections. We are seeking comments from the public, and other Federal agencies, as part of our continuing effort to minimize burdens and enhance the quality, utility, and clarity of the information to be collected.

DATES: Interested persons are invited to submit comments on or before August 20, 2024.

ADDRESSES: To submit a comment, please visit https://www.regulations.gov/docket/BIA-2022-0005 or use the search field on https://www.regulations.gov to find the “BIA-2022-0005” docket. Please follow the instructions on Regulations.gov for submitting a comment; and reference the applicable OMB Control Number within your comment submission.

FOR FURTHER INFORMATION CONTACT: Steven Mullen, Information Collection Clearance Officer, by email at comments@bia.gov or telephone at (202) 924-2650. Individuals in the United States who are deaf, deafblind, hard of hearing, or have a speech disability may dial 711 (TTY, TDD, or TeleBraille) to access telecommunications relay services. You may also view each information collection at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether the collection of information is necessary for the proper performance of the functions of the agency, including whether the information will have practical utility;

(2) The accuracy of our estimate of the burden for the collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve the information collection request. Before including your address, phone number, email address, or other personal identifying information in your comment, you should be aware that your entire comment—including your personal identifying information—may be made publicly available at any time. While you can ask us in your comment to withhold your personal identifying information from public review, we cannot guarantee that we will be able to do so.

Information Collection | OMB Control No. | Expiration date
(1.) Verification of Indian Preference for Employment in BIA and IHS | 1076-0160 | 10/31/2024
(2.) Law and Order on Indian Reservations—Marriage & Dissolution Applications, 25 CFR 11 | 1076-0094 | 11/30/2024
(3.) Bureau of Indian Education Adult Education Program | 1076-0120 | 11/30/2024
(4.) Indian Child Welfare Quarterly and Annual Report | 1076-0131 | 11/30/2024
(5.) Reporting System for Public Law 102-477 Demonstration Project | 1076-0135 | 11/30/2024
(6.) Request for Certificate of Degree of Indian or Alaska Native Blood | 1076-0153 | 11/30/2024
(7.) Sovereignty in Indian Education Grant Program | 1076-0182 | 11/30/2024
(8.) Indian Highway Safety Grants | 1076-0190 | 11/30/2024
(9.) Probate of Indian Estates, except for Members of the Osage Nation and the Five Civilized Tribes | 1076-0169 | 12/31/2024
(10.) Tribal Colleges and Universities Grant Application Form, 25 CFR 41 | 1076-0018 | 01/31/2025
(11.) Indian Business Incubator Program, 25 CFR 1187 | 1076-0199 | 01/31/2025
(12.) Application for Admission to Haskell Indian Nations University and to Southwestern Indian Polytechnic Institute | 1076-0114 | 03/31/2025
(13.) Loan Guarantee, Insurance, and Interest Subsidy Program, 25 CFR 103 | 1076-0020 | 05/31/2025
(14.) Reindeer in Alaska | 1076-0047 | 05/31/2025
(15.) Tribal Reassumption of Jurisdiction over Child Custody Proceedings, 25 CFR 13 | 1076-0112 | 05/31/2025
(16.) Student Transportation Form | 1076-0134 | 05/31/2025
(17.) Secretarial Elections | 1076-0183 | 05/31/2025
(18.) Bureau of Indian Affairs Housing Improvement Program | 1076-0184 | 05/31/2025

1. Verification of Indian Preference for Employment in BIA and IHS

Abstract: The BIA is seeking renewal of the approval for the information collection conducted under 25 U.S.C. 43, 36 Stat. 472, inter alia, and implementing regulations, at 25 CFR part 5, regarding verification of Indian preference for employment. The purpose of Indian preference is to encourage qualified Indian persons to seek employment with the BIA and the Indian Health Service (IHS) by offering preferential treatment to qualified candidates of Indian heritage. The BIA collects the information to ensure compliance with Indian preference hiring requirements. The information collection relates only to individuals applying for employment with the BIA and/or IHS. The tribe's involvement is limited to verifying membership information submitted by the applicant. The collection of information allows certain persons who are of Indian descent to receive preference when appointments are made to vacancies in positions with the BIA and the IHS as well as in any unit that has been transferred intact from the BIA to a Bureau or office within the Department of the Interior or the Department of Health and Human Services and that continues to perform functions formerly performed as part of the BIA and the IHS. You are eligible for preference if (a) you are a member of a federally recognized Indian tribe; (b) you are a descendent of a member and you were residing within the present boundaries of any Indian reservation on June 1, 1934; (c) you are an Alaska native; or (d) you possess one-half degree Indian blood derived from tribes that are indigenous to the United States.

Title of Collection: Verification of Indian Preference for Employment in the BIA and the IHS.

OMB Control Number: 1076-0160.

Form Number: BIA 4432.

Type of Review: Extension of a currently approved collection.

Respondents/Affected Public: Qualified Indian persons who are seeking preference in employment with the BIA and the IHS.

Total Estimated Number of Annual Respondents: 5,000 per year, on average.

Total Estimated Number of Annual Responses: 5,000 per year, on average.

Estimated Completion Time per Response: 30 minutes.

Total Estimated Number of Annual Burden Hours: 2,500 hours.

Respondent's Obligation: A response is required to obtain a benefit.

Frequency of Collection: On occasion.

Total Estimated Annual Nonhour Burden Cost: $7,640.

2. Law and Order on Indian Reservations—Marriage & Dissolution Applications, 25 CFR 11

Abstract: The Bureau of Indian Affairs (BIA) is seeking renewal of the approval for the information collection conducted under 25 CFR 11.600(c) and 11.606(c). This information collection allows the Clerk of the Court of Indian Offenses to collect personal information necessary for a Court of Indian Offenses to issue a marriage license or dissolve a marriage. Courts of Indian Offenses have been established on certain Indian reservations under the authority vested in the Secretary of the Interior by 5 U.S.C. 301 and 25 U.S.C. 2, 9, and 13, which authorize appropriations for “Indian judges.” The courts provide for the administration of justice for Indian tribes in those areas where the tribes retain jurisdiction over Indians, exclusive of State jurisdiction, but where tribal courts have not been established to exercise that jurisdiction and the tribes has, by resolution or constitutional amendment, chosen to use the Court of Indian Offenses. Accordingly, Courts of Indian Offenses exercise jurisdiction under 25 CFR 11. Domestic relations are governed by 25 CFR 11.600, which authorizes the Court of Indian Offenses to conduct and dissolve marriages.

In order to obtain a marriage licenses in a Court of Indian Offenses, applicants must provide the six items of information listed in 25 CFR 11.600(c), including identifying information, such a Social Security number, information on previous marriage, relationship to the other applicant, and a certificate of the results of any medical examination required by applicable tribal ordinances or the laws of the State in which the Indian country under the jurisdiction of the Court of Indian Offenses is located. To dissolve a marriage, applicants must provide the six items of information listed in 25 CFR 11.606(c), including information on occupation and residency (to establish jurisdiction), information on whether the parties have lives apart for at least 180 days or if there is serious marital discord warranting dissolution, and information on the children of the marriage and whether the wife is pregnant (for the court to determine the appropriate level of support that may be required from the non-custodial parent). (25 CFR 11.601) Two forms are used as part of this information collection, the Marriage License Application and the Dissolution of Marriage Application.

Title of Collection: Law and Order on Indian Reservations—Marriage & Dissolution Applications, 25 CFR 11.

OMB Control Number: 1076-0094.

Form Number: None.

Type of Review: Extension of a currently approved collection.

Respondents/Affected Public: Individuals.

Total Estimated Number of Annual Respondents: 260 per year, on average.

Total Estimated Number of Annual Responses: 260 per year, on average.

Estimated Completion Time per Response: 15 minutes.

Total Estimated Number of Annual Burden Hours: 65 hours.

Respondent's Obligation: Required to Obtain or Retain a Benefit.

Frequency of Collection: On occasion.

Total Estimated Annual Nonhour Burden Cost: $6,500 (approximately $25 per application for processing fees).

3. Bureau of Indian Education Adult Education Program

Abstract: The BIE is seeking renewal of the approval for the information collection conducted under 25 CFR part 46 to manage program resources and for fiscal accountability and appropriate direct services documentation. This information includes an annual report form.

Title of Collection: Bureau of Indian Education Adult Education Program.

OMB Control Number: 1076-0120.

Form Number: BIA-62123.

Type of Review: Extension of a currently approved collection.

Respondents/Affected Public: Individuals (Tribal Adult Education Program Administrators).

Total Estimated Number of Annual Respondents: 70 per year, on average.

Total Estimated Number of Annual Responses: 70 per year, on average.

Estimated Completion Time per Response: 4 hours.

Total Estimated Number of Annual Burden Hours: 280 hours.

Respondent's Obligation: Required to Obtain a Benefit.

Frequency of Collection: Once per year.

Total Estimated Annual Nonhour Burden Cost: $200.

4. Indian Child Welfare Quarterly and Annual Report

Abstract: The BIA is seeking to revise the information collection conducted under 25 CFR 23, related to the Indian Child Welfare Act (ICWA). The BIA uses the information to determine the extent of service needs in local Indian communities, assess ICWA program effectiveness, and provide date for the annual program budget justification. The aggregated report is not considered confidential. The form must be completed by Federally recognized Tribes that operate child protection programs. Submission of this information by Federally recognized Tribes allows the BIA to consolidate and review selected data on Indian child welfare cases. The data is useful on a local level, to the Tribes and Tribal entities that collect it, for case management purposes. The data are useful on a nationwide basis for planning and budget purposes.

Title of Collection: Indian Child Welfare Quarterly and Annual Report.

OMB Control Number: 1076-0131.

Form Number: Part A, Part B.

Type of Review: Revision of a currently approved collection.

Proposed Revisions: The BIA propose to revise the existing, consolidated caseload form into two forms—Part A form, and Part B form—in order to facilitate the appropriate Tribal officials filling out each.

Respondents/Affected Public: Federally recognized Tribes or Tribal entities that are operating programs for Tribes.

Total Estimated Number of Annual Respondents: 565 per year, on average.

Total Estimated Number of Annual Responses: 2,260 per year, on average.

Estimated Completion Time per Response: Approximately 30 minutes for Part A—ICWA Data; approximately 30 minutes for Part B—Tribal Child Abuse and Neglect Data.

Total Estimated Number of Annual Burden Hours: 1,130 per year on average.

Respondent's Obligation: A response is required to obtain a benefit.

Frequency of Collection: Four times per year for the Part A—ICWA Data; if applicable, four times per year for Part B—Tribal Child Abuse Neglect Data.

Total Estimated Annual Nonhour Burden Cost: $0.

5. Reporting System for Public Law 102-477 Demonstration Project

Abstract: This information allows the Division of Workforce Development (DWD), which reports to the BIA—Indian Services, to document satisfactory compliance with statutory, regulatory, and other requirements of the various integrated programs. Public Law 102-477 authorized tribal governments to integrate federally funded employment, training, and related services and programs into a single, coordinated, comprehensive service delivery plan. Funding agencies include the Department of Labor and the Department of Health and Human Services. BIA is statutorily required to serve as the lead agency and provides a single, universal report format for use by tribal governments to report on integrated activities and expenditures. The DWD shares the information collected from these reports with the Department of Labor and the Department of Health and Human Services.

Title of Collection: Reporting System for Public Law 102-477 Demonstration Project.

OMB Control Number: 1076-0135.

Form Number: BIA-8205.

Type of Review: Revision of a currently approved collection.

Proposed Revisions: The BIA propose to revise the existing forms in collaboration with Federal partners and the 477 Tribal Workgroup.

Respondents/Affected Public: Indian tribes participating in Public Law 102-477 and individuals.

Total Estimated Number of Annual Respondents: 258.

Total Estimated Number of Annual Responses: 258.

Estimated Completion Time per Response: Varies from half an hour to six hours.

Total Estimated Number of Annual Burden Hours: 1,017.

Respondent's Obligation: Required to Obtain a Benefit.

Frequency of Collection: Once annually for the reporting, and once annually for the job placement and training application.

Total Estimated Annual Nonhour Burden Cost: $355.

6. Request for Certificate of Degree of Indian or Alaska Native Blood

Abstract: The BIA is seeking renewal of the approval for the information collection conducted under the numerous laws authorizing BIA to administer program services to Indians, provided that the individual possesses a minimum degree of Indian or Alaska Native blood. When applying for program services authorized by these laws, an applicant must provide acceptable documentation to prove that he or she meets the minimum required degree of Indian or Alaska Native blood. Currently, the BIA certifies an individual's degree of Indian or Alaska Native blood if the individual can provide sufficient information to prove his or her identity and prove his or her descent from an Indian ancestor(s) listed on historic documents approved by the Secretary of the Interior that include blood degree information. To obtain the CDIB, the applicant must fill out an application form and provide supporting documents.

Title of Collection: Request for Certificate of Degree of Indian or Alaska Native Blood.

OMB Control Number: 1076-0153.

Form Number: N/A.

Type of Review: Extension of a currently approved collection.

Respondents/Affected Public: Individuals.

Total Estimated Number of Annual Respondents: 100,000 per year, on average.

Total Estimated Number of Annual Responses: 100,000 per year, on average.

Estimated Completion Time per Response: 1.5 hours.

Total Estimated Number of Annual Burden Hours: 150,000.

Respondent's Obligation: Required to Obtain a Benefit.

Frequency of Collection: Once.

Total Estimated Annual Nonhour Burden Cost: $2,500,000.

7. Sovereignty in Indian Education Grant Program

Abstract: Indian Tribes and Tribal Organizations may submit proposals to support their efforts to take control and operate BIE-funded schools located on the Tribe's reservation under 25 U.S.C. .2501. Each proposal must include a project narrative, a budget narrative, a work plan outline, and a Project Director to manage the execution of the grant. The Project Directors will participate in monthly collaboration meetings, submit quarterly budget updates, ensure an annual report is submitted at the end of each project year, and ultimately ensure that the tribal education agency fulfills the obligations of the grant.

Title of Collection: Sovereignty in Indian Education Grant Program.

OMB Control Number: 1076-0182.

Form Number: None.

Type of Review: Extension of a currently approved collection.

Respondents/Affected Public: Indian Tribes and/or Tribal Education Departments.

Total Estimated Number of Annual Respondents: 11 per year.

Total Estimated Number of Annual Responses: 198 per year.

Estimated Completion Time per Response: Ranges from 1 hour to 40 hours.

Total Estimated Number of Annual Burden Hours: 682 hours.

Respondent's Obligation: Required to Obtain a Benefit.

Frequency of Collection: Proposals and Annual reports once per year and Budget Reports are submitted 4 times per year.

Total Estimated Annual Nonhour Burden Cost: $0.

8. Indian Highway Safety Grants

Abstract: This data collected is a requirement for the BIA Indian Highway Safety Program (IHSP) to fulfil the data obligations of 23 CFR 1300.11 and will be used for review and consideration by the IHSP Selection Committee for consideration of grant awards. This information is collected from Tribal entities concerning population, land base, highway miles and statistical data concerning vehicle fatalities, crashes, traffic enforcement actions and proposed financial data.

Title of Collection: Indian Highway Safety Grants.

OMB Control Number: 1076-0190.

Form Number: None.

Type of Review: Extension of a currently approved collection.

Respondents/Affected Public: Tribal governments.

Total Estimated Number of Annual Respondents: 485 per year, on average.

Total Estimated Number of Annual Responses: 2,256 per year, on average.

Estimated Completion Time per Response: For applications, 4 hours, on average; for monthly reports, 3-11 hours, on average; and for annual reports, 5-9 hours, on average.

Total Estimated Number of Annual Burden Hours: 15,316 on average.

Respondent's Obligation: Required to obtain or retain a benefit.

Frequency of Collection: Annually for grant applications and annual reports; monthly for reports.

Total Estimated Annual Nonhour Burden Cost: None.

9. Probate of Indian Estates, Except for Members of the Osage Nation and the Five Civilized Tribes

Abstract: The Secretary of the Interior probates the estates of individual Indians owning trust or restricted property in accordance with 25 U.S.C. 372-373. In order to compile the probate file, the BIA must obtain the family heirship data regarding the deceased from individuals and the tribe. This section contains the procedures that the Secretary of the Interior follows to initiate the probate of the trust estate for a deceased person who owns an interest in trust or restricted property. The Secretary must perform the necessary research of family heirship data collection requests in this part to obtain the information necessary to compile an accurate and complete probate file. This file will be forwarded to the Office of Hearing and Appeals (OHA) for disposition. Responses to these information collection requests are required to create a probate file for the decedent's estate so that OHA can determine the heirs of the decedent and order distribution of the trust assets in the decedent's estate.

Title of Collection: Probate of Indian Estates, Except for Members of the Osage Nation and Five Civilized Tribes.

OMB Control Number: 1076-0169.

Form Number: OHA-7.

Type of Review: Revision of a currently approved collection.

Proposed Revisions: Addition of a form to collect data for heirship finding and family history (OHA-7 form).

Respondents/Affected Public: Indians, businesses, and tribal authorities.

Total Estimated Number of Annual Respondents: 36,906 per year.

Total Estimated Number of Annual Responses: 41,139 per year.

Estimated Completion Time per Response: Varies from 0.5 hours to 45 hours.

Total Estimated Number of Annual Burden Hours: 617,486 per year.

Respondent's Obligation: Required to Obtain a Benefit.

Frequency of Collection: Once per respondent per year.

Total Estimated Annual Nonhour Burden Cost: $0.

10. Tribal Colleges and Universities Grant Application Form, 25 CFR 41

Abstract: Each tribally-controlled college or university requesting financial assistance under the Tribally Controlled Colleges and Universities Assistance Act of 1978 (the Act) (25 U.S.C. 1801 et seq.), which provides grants to Tribally Controlled Colleges or Universities for the purpose of ensuring continued and expanded educational opportunities for Indian students. Similarly, each Tribally Controlled College or University that receives financial assistance is required by Sec.107(c)(1) of the Act and 25 CFR 41 to provide a report on the use of funds received.

Title of Collection: Tribal Colleges and Universities Grant Application Form, 25 CFR 41.

OMB Control Number: 1076-0018.

Form Number: BIE-62107, BIE-6259, BIE Form 22, and the Third Week Monitoring Form.

Type of Review: Extension of a currently approved collection.

Respondents/Affected Public: Tribal college and university administrators.

Total Estimated Number of Annual Respondents: 29 per year, on average.

Total Estimated Number of Annual Responses: 174 per year, on average.

Estimated Completion Time per Response: Varies from 1 hour to 11 hours.

Total Estimated Number of Annual Burden Hours: 870 hours.

Respondent's Obligation: Required to Obtain a Benefit.

Frequency of Collection: Annually.

Total Estimated Annual Nonhour Burden Cost: $0.

11. Indian Business Incubator Program, 25 CFR 1187

Abstract: This information collection includes items that an applicant must include in an application for an Indian Business Incubator Program (IBIP) grant and that IBIP awardees must include in the annual report. Applicant contents include such items as a description of the reservation communities the incubator will serve, a three-year plan regarding the services to be offered to participating entrepreneurs, among other items, information regarding applicant's experience in conducting assistance programs, and a site description of the location at which the applicant will provide workspace to participants, among other items. The annual report includes a detailed breakdown of the entrepreneurs the incubator has served for the year covered by the report.

Title of Collection: Indian Business Incubator Program, 25 CFR 1187.

OMB Control Number: 1076-0199.

Form Number: None.

Type of Review: Extension of a currently approved collection.

Respondents/Affected Public: Individuals, Private Sector, Government.

Total Estimated Number of Annual Respondents: 50.

Total Estimated Number of Annual Responses: 100.

Estimated Completion Time per Response: Ranges from 5 to 35 hours.

Total Estimated Number of Annual Burden Hours: 2,000 hours.

Respondent's Obligation: Required to obtain a benefit.

Frequency of Collection: Occasionally.

Total Estimated Annual Nonhour Burden Cost: $0.

12. Application for Admission to Haskell Indian Nations University and to Southwestern Indian Polytechnic Institute

Abstract: The BIE is requesting approval for the admission forms for Haskell Indian Nations University (Haskell) and Southwest Indian Polytechnic Institute (SIPI). These admission forms are used in determining program eligibility of American Indian and Alaska Native students for educational services. These forms are utilized pursuant to the Blood Quantum Act, Public Law 99-228; the Snyder Act, Chapter 115, Public Law 67-85; and, the Indian Appropriations of the 48th Congress, Chapter 180, page 91, For Support of Schools, July 4, 1884. Submission of these eligibility application forms is mandatory in determining a student's eligibility for educational services. The information is collected on two forms: The Application for Admission to Haskell form and the Application for Admission to SIPI form. Haskell opted to not pursue approval of the Dual Enrollment as a part of this renewal.

Title of Collection: Application for Admission to Haskell Indian Nations University and to Southwestern Indian Polytechnic Institute.

OMB Control Number: 1076-0114.

Form Number: None.

Type of Review: Revision of a currently approved collection.

Proposed Revisions: Revised applications to facilitate digital submissions.

Respondents/Affected Public: Students.

Total Estimated Number of Annual Respondents: 2,100 per year, on average.

Total Estimated Number of Annual Responses: 2,100 per year, on average.

Estimated Completion Time per Response: 15 minutes per Haskell application; 30 minutes per SIPI application.

Total Estimated Number of Annual Burden Hours: 800 hours.

Respondent's Obligation: Response is required to obtain a benefit.

Frequency of Collection: Once per year for Haskell; once for SIPI, unless a student has missed more than two consecutive trimesters.

Total Estimated Annual Nonhour Burden Cost: $11,533.

13. Loan Guarantee, Insurance, and Interest Subsidy Program, 25 CFR 103

Abstract: Submission of this information allows the Office of Indian Economic Development (OIED) to implement the Loan Guarantee, Insurance, and Interest Subsidy Program, 25 U.S.C. 1451 et seq., the purpose of which is to encourage private lending to individual Indians and Indian organizations by providing lenders with loan guarantees or loan insurance to reduce their potential risk. The information collection allows OIED to determine the eligibility and credit-worthiness of respondents and loans and otherwise ensure compliance with Program requirements. This information collection includes the use of several forms.

Title of Collection: Loan Guarantee, Insurance, and Interest Subsidy Program, 25 CFR 103.

OMB Control Number: 1076-0020.

Form Number: ALD10, CFL10, ISR10, LGA10, LGC10, LIA10, NIL10, NOD10, RGI10.

Type of Review: Extension of a currently approved collection.

Respondents/Affected Public: Lenders, including commercial banks, and borrowers, including individual Indians and Indian organizations.

Total Estimated Number of Annual Respondents: 622.

Total Estimated Number of Annual Responses: 1,377.

Estimated Completion Time per Response: Ranging from 0.5 to 2 hours.

Total Estimated Number of Annual Burden Hours: 2,654 hours.

Respondent's Obligation: Required to Obtain or Retain a Benefit.

Frequency of Collection: On occasion.

Total Estimated Annual Nonhour Burden Cost: $0.

14. Reindeer in Alaska

Abstract: The Bureau of Indian Affairs (BIA) is seeking renewal of the approval for the information collection conducted under 25 CFR part 243, Reindeer in Alaska, which is used to monitor and regulate the possession and use of Alaskan reindeer by non-Natives in Alaska. The information to be provided includes an applicant's name and address, and where an applicant will keep the reindeer. The applicant must fill out an application for a permit to get a reindeer for any purpose; and is required to report on the status of reindeer annually or when a change occurs, including changes prior to the date of the annual report. This information collection utilizes four forms. A response is required to obtain and/or retain a benefit.

Title of Collection: Reindeer in Alaska.

OMB Control Number: 1076-0047.

Form Number: None.

Type of Review: Extension of a currently approved collection.

Respondents/Affected Public: Non-Indians who wish to possess Alaskan reindeer.

Total Estimated Number of Annual Respondents: 4 per year, on average (1 respondent for the Sale Permit for Alaska Reindeer, 1 respondent for the Sale Report Form for Alaska Reindeer, 1 respondent for the Special Use Permit for Alaskan Reindeer, and 1 respondent for the Special Use Reindeer Report).

Total Estimated Number of Annual Responses: 4.

Estimated Completion Time per Response: 5 minutes for the Sale Permit and Report forms; and 10 minutes for the Special Use Permit and Report forms, on average.

Total Estimated Number of Annual Burden Hours: 30 minutes.

Respondent's Obligation: Required to Obtain a Benefit.

Frequency of Collection: Once a year, on average.

Total Estimated Annual Nonhour Burden Cost: $0.

15. Tribal Reassumption of Jurisdiction Over Child Custody Proceedings, 25 CFR 13

Abstract: The BIA is seeking to renew the information collection conducted under 25 CFR 13, Tribal Reassumption of Jurisdiction over Child Custody Proceedings, which prescribes procedures by which a federally recognized Tribe that occupies Tribal lands over which a State asserts any jurisdiction pursuant to Federal law may reassume jurisdiction over Indian child proceedings as authorized by the Indian Child Welfare Act, Public Law 95-608, 92 Stat. 3069, 25 U.S.C. 1918. The collection of information will ensure that the provisions of Public Law 95-608 are met. Any federally recognized Tribe that became subject to State jurisdiction pursuant to the provisions of the Act of August 15, 1953 (67 Stat. 588), as amended by title IV of the Act of April 11, 1968 (82 Stat. 73, 78), or pursuant to any other Federal law, may reassume jurisdiction over child custody proceedings. The collection of information provides data that will be used in considering the petition and feasibility of the plan of the Tribe for reassumption of jurisdiction over Indian child custody proceedings. We collect the following information: Full name, address, and telephone number of petitioning Tribe or Tribes; a Tribal resolution; estimated total number of members in the petitioning Tribe of Tribes with an explanation of how the number was estimated; current criteria for Tribal membership; citation to provision in Tribal constitution authorizing the Tribal governing body to exercise jurisdiction over Indian child custody matters; description of Tribal court; copy of any Tribal ordinances or Tribal court rules establishing procedures or rules for exercise of jurisdiction over child custody matters; and all other information required by 25 CFR 13.11.

Title of Collection: Tribal Reassumption of Jurisdiction over Child Custody Proceedings, 25 CFR 13.

OMB Control Number: 1076-0112.

Form Number: None.

Type of Review: Extension of a currently approved collection.

Respondents/Affected Public: Federally recognized Tribes who submit Tribal reassumption petitions for review and approval by the Secretary of the Interior.

Total Estimated Number of Annual Respondents: 1.

Total Estimated Number of Annual Responses: 1.

Estimated Completion Time per Response: 8 hours.

Total Estimated Number of Annual Burden Hours: 8 hours.

Respondent's Obligation: Required to Obtain or Retain a Benefit.

Frequency of Collection: On occasion.

Total Estimated Annual Nonhour Burden Cost: None.

16. Student Transportation Form

Abstract: The Student Transportation regulations in 25 CFR part 39, subpart G, contain the program eligibility and criteria that govern the allocation of transportation funds. Information collected from the schools will be used to determine the rate per mile. The information collection provides transportation mileage for Bureau-funded schools, which determines the allocation of transportation funds. This information is collected using a web-based system, Web Education Transportation (Web ET).

Title of Collection: Student Transportation Form.

OMB Control Number: 1076-0134.

Form Number: None.

Type of Review: Extension of a currently approved collection.

Respondents/Affected Public: Contract and Grant schools; Bureau-operated schools.

Total Estimated Number of Annual Respondents: 183 per year, on average.

Total Estimated Number of Annual Responses: 183 per year, on average.

Estimated Completion Time per Response: Two hours.

Total Estimated Number of Annual Burden Hours: 366 hours.

Respondent's Obligation: Required to Obtain a Benefit.

Frequency of Collection: Once per year.

Total Estimated Annual Nonhour Burden Cost: $0.

17. Secretarial Elections

Abstract: Under the Indian Reorganization Act, Tribes have the right to organize and adopt constitutions, bylaws, and any amendments thereto, and ratify charters of incorporation, through elections called by the Secretary of the Interior, according to rules prescribed by the Secretary. See 25 U.S.C. 476, 477, 503. The Secretary's rules for conducting these elections, known as “Secretarial elections,” and approving the results are at 25 CFR 81. In most cases, the Tribe requests a Secretarial election; however, an individual voting member of a Tribe may also request a Secretarial election by petition. These rules also establish the procedures for an individual to petition for a Secretarial election. The BIA requires the Tribe to submit a formal request for Secretarial election, including: A Tribal resolution; the document or language to be voted on in the election; a list of all Tribal members who are age 18 or older in the next 120 days (when the election will occur), including their last known addresses, voting districts (if any), and dates of birth, in an electronically sortable format. While much of the information the Tribe prepares for a Secretarial election (e.g., list of members eligible to vote) would be required if the Tribe instead conducted its own Tribal election, the Secretary's rules establish specifics on what a Tribal request or petition for election must contain. These specifics are necessary to ensure the integrity of Secretarial elections and allow the BIA and Tribal personnel the ability to consistently administer elections.

Title of Collection: Secretarial Elections.

OMB Control Number: 1076-0183.

Form Number: Secretarial Election Voter Registration Form.

Type of Review: Extension of a currently approved collection.

Respondents/Affected Public: Federally recognized Tribes and their members.

Total Estimated Number of Annual Respondents: 252,041.

Total Estimated Number of Annual Responses: 252,041.

Estimated Completion Time per Response: Varies from 15 minutes to 40 hours.

Total Estimated Number of Annual Burden Hours: 64,305.

Respondent's Obligation: Required to Obtain a Benefit.

Frequency of Collection: On occasion.

Total Estimated Annual Nonhour Burden Cost: $183,960.

18. Bureau of Indian Affairs Housing Improvement Program

Abstract: Submission of this information allows BIA to determine applicant eligibility for housing services based upon the criteria referenced in 25 CFR 256.9 (repairs and renovation assistance) and 256.10 (replacement housing assistance). Enrolled members of a federally recognized Tribe, who live within a Tribe's designated and approved service area, submit information on an application form.

Title of Collection: Bureau of Indian Affairs Housing Improvement Program.

OMB Control Number: 1076-0184.

Form Number: BIA-6407, Tribal Annual Performance Report (TAPR) Excel workbook, and the Government Performance Results Act (GPRA) Reporting Form.

Type of Review: Extension of a currently approved collection.

Respondents/Affected Public: Individuals.

Total Estimated Number of Annual Respondents: 12,292 per year, on average.

Total Estimated Number of Annual Responses: 12,523 per year, on average.

Estimated Completion Time per Response: Varies between 15 and 30 minutes.

Total Estimated Number of Annual Burden Hours: 5,185 hours.

Respondent's Obligation: Required to Obtain a Benefit.

Frequency of Collection: Once per year for the HIP Application, HIP Addendum, and TAPR workbook. Quarterly for the GPRA Reporting form.

Total Estimated Annual Nonhour Burden Cost: $0.

Authority

An agency may not conduct or sponsor and a person is not required to respond to a collection of information unless it displays a currently valid OMB control number. The authority for these information collection actions is the Paperwork Reduction Act of 1995 (44 U.S.C. 3501 et seq.).

Steven Mullen,
Information Collection Clearance Officer, Office of Regulatory Affairs and Collaborative, Office of the Assistant Secretary—Indian Affairs.

[FR Doc. 2024-13511 Filed 6-20-24; 8:45 am]

BILLING CODE 4337-15-P